NATIONAL SCIENCE FOUNDATION

Astronomy and Astrophysics Advisory Committee; Notice of Meeting

In accordance with the Federal Advisory Committee Act (Pub. L. 92-463, as amended), the National Science Foundation (NSF) announces the following meeting:

Name: Astronomy and Astrophysics Advisory Committee (#13883).

Date and Time: June 22, 2017; 12:00 p.m.-4:00 p.m. EDT (via Teleconference).

Place: National Science Foundation, Room 390, Stafford I Building, 4201 Wilson Blvd., Arlington, VA 22230.

Dial-In Information

To join via Browser: https://bluejeans.com/996692403/browser.

To join via phone:

(1) Dial: +1.408.740.7256; +1.888.240.2560; or +1.408.317.9253 (see all numbers— http://bluejeans.com/numbers?ll=en).

(2) Enter Conference ID: 996692403.

Type of Meeting: Open.

Contact Person: Dr. Ralph Gaume, Acting Division Director, Division of Astronomical Sciences, Suite 1045, National Science Foundation, 4201 Wilson Blvd., Arlington, VA 22230. Telephone: 703-292-2335.

Purpose of Meeting: To provide advice and recommendations to the National Science Foundation (NSF), the National Aeronautics and Space Administration (NASA) and the U.S. Department of Energy (DOE) on issues within the field of astronomy and astrophysics that are of mutual interest and concern to the agencies.

Agenda: To hear presentations of current programming by representatives from NSF, NASA, DOE and other agencies relevant to astronomy and astrophysics; to discuss current and potential areas of cooperation between the agencies; to formulate recommendations for continued and new areas of cooperation and mechanisms for achieving them.

Dated: February 7, 2017.
Crystal Robinson,
Committee Management Officer.

[FR Doc. 2017-02785 Filed 2-9-17; 8:45 am]

BILLING CODE 7555-01-P